DEPARTMENT OF HEALTH AND HUMAN SERVICES

Centers for Disease Control and Prevention

Development and Support of Research Agenda Needs Related to Injury Prevention and Control

Announcement Type: Competing Continuation.

Funding Opportunity Number: 04065.

Catalog of Federal Domestic Assistance Number: 93.136.

Key Dates:

Letter of Intent Deadline: February 9, 2004.

Application Deadline: March 8, 2004.

I. Funding Opportunity Description

Authority: This program is authorized under sections 301(a) and 391(a) of the Public Health Service Act, [42 U.S.C. section 280b(a)], as amended.

Purpose: The purpose of this cooperative agreement is to assist an injury control research group to promote collaborative, educational, and scholarly activity in defining the research and training needs for injury control professionals and in developing the field of injury prevention and control. In addition, this cooperative agreement will assist an injury control research group in synthesizing the expertise of the multiple disciplines of injury control, in disseminating injury research findings, and in serving as a resource for injury researchers and practitioners, all within the context of building and sustaining the field of injury prevention and control.

Measurable outcomes of the program will be in alignment with the following performance goal for the National Center for Injury Prevention and Control (NCIPC):

Increase the capacity of injury prevention and control programs to address the prevention of injuries and violence.

Activities: Awardee activities for this program are as follows:

• Promote collaborative, educational, and scholarly activity in defining the research and training needs of injury control professionals and in developing the field of injury prevention and control, both clinician and practitioner-oriented, through program development, teaching, and other activities drawing upon expertise from multiple disciplines, settings and perspectives.

• Facilitate dissemination of the injury research findings of both the federally and non-federally funded community of injury control researchers to enable improvements in injury control policies and programs.

• Provide a coordinated resource to other researchers and practitioners in accessing expertise in the development of program activities.

• Sustain a focus on teaching the next generation of injury researchers and practitioners by participating in the development of improved educational opportunities in appropriate disciplines.

• Promote rigorous evaluation of injury control initiatives through development and dissemination of improved methodologies for program implementation and evaluation.

• Maintain active liaisons with other organizations, institutions, and agencies whose purposes and functions are similar in order to develop a more comprehensive presence in ongoing discussions defining injury-related issues.

In a cooperative agreement, CDC staff is substantially involved in the program activities, above and beyond routine grant monitoring.

CDC Activities for this program are as follows:

• Provide assistance in defining the research and training needs of injury control professionals in the developing field of injury prevention and control.

• Provide assistance in the provision of a coordinated resource to other researchers, practitioners, and decision makers in accessing the expertise of the multiple disciplines of the field of injury prevention and control.

• Provide continuing updates on scientific and operational developments related to injury prevention and control as part of a shared dissemination strategy.

II. Award Information

Type of Award: Cooperative Agreement.

CDC involvement in this program is listed in the Activities Section above.

Fiscal Year Funds: FY 2004.

Approximate Total Funding: $250,000.

Approximate Number of Awards: One award.

Approximate Average Award: $250,000.

Floor of Award Range: $250,000.

Ceiling of Award Range: $250,000.

If you request a funding amount greater than the ceiling of the award range, your application will be considered non-responsive and will not be entered into the review process. You will be notified that your application did not meet the submission requirements.

Anticipated Award Date: July 30, 2004.

Budget Period Length: Twelve months.

Project Period Length: Five years.

Throughout the project period, CDC's commitment to continuation of awards will be conditioned on the availability of funds, evidence of satisfactory progress by the recipient (as documented in required reports), and the determination that continued funding is in the best interest of the Federal Government.

III. Eligibility Information

Eligible applicants: Applications may be submitted by public and private nonprofit organizations and by governments and their agencies, such as:

• Public nonprofit organizations

• Private nonprofit organizations

• Small, minority, women-owned businesses

• Universities

• Colleges

• Research institutions

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the State as eligible to submit an application under the State eligibility in lieu of a State application. If you are applying as a bona fide agent of a State or local government, you must provide a letter from the State or local government as documentation of your status. Place this documentation behind the first page of your application form.

Other Eligibility Requirements: If your application is incomplete or non-responsive to the requirements listed below, it will not be entered into the review process. You will be notified that your application did not meet the submission requirements.

Non-profit organizations must have their tax-exempt status as determined by the Internal Revenue Service (IRS) Code, section 501(c). Tax-exempt status may either be provided by submitting a copy of the current IRS Determination Letter or a copy of the pages from the IRS most recent list of 501(c) tax-exempt organization. Proof of tax-exempt status must be provided with the application.

Cost Sharing or Matching: Matching funds are not required for this program.

Note: Title 2 of the United States Code section 1611 states that an organization described in section 501(c)(4) of the Internal Revenue Code that engages in lobbying activities is not eligible to receive Federal funds constituting an award, grant, or loan.

IV. Application and Submission Information

Letter of Intent (LOI): CDC requests that you send a LOI if you intend to apply for this program. Your LOI will be used to gauge the level of interest in this program, and to allow CDC to plan the application review. Your LOI must be written in the following format:

• Maximum number of pages: Two

• Font size: 12-point unreduced

• Paper size: 8.5 by 11 inches

• Single spaced

• Page margin size: 1 inch

• Printed only on one side of page

• Written in English, avoid jargon

Your LOI must contain the following information:

• Number and title of this Program Announcement (PA #04065)

• Description of the proposed activities

• Name, address, e-mail address, and telephone number of the Principal Investigator

• Names of other key personnel

• Participating institutions

LOI Deadline Date: February 9, 2004.

LOI Submission Address: Submit your LOI by express mail, delivery service, fax or e-mail to: Tom Voglesonger, Project Officer, CDC, NCIPC, 4770 Buford Highway, M/S: K-02, Atlanta, GA 30341-3724, Telephone: (770) 488-4823, E-mail: tdv1@cdc.gov.

How To Obtain Application Forms and Instructions: To apply for this funding opportunity use application form PHS 398. Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: (770) 488-2700. Application forms can be mailed to you.

Content and Form of Submission: This program announcement is the definitive guide on application format, content, and deadlines. It supersedes information provided in the application instructions. If there are discrepancies between the application form instructions and the program announcement, adhere to the guidance in the program announcement.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

If your application form does not have a DUNS number field, please write your DUNS number at the top of the first page of your application, and/or include your DUNS number in your application cover letter.

You must submit a signed original, and two copies of your application forms. You must include a project narrative with your application forms. Your narrative must be submitted in the following format:

• Maximum number of pages: 40 pages if your narrative exceeds the page limit, only the first pages, which are within the page limit, will be reviewed.

• Font size: 12 point unreduced

• Paper size: 8.5 by 11 inches

• Page margin size: one inch

• Printed only on one side of page

• Held together only by rubber bands or metal clips; not bound in any other way.

Your narrative should address activities to be conducted over the entire project period, and must include the following items in the order listed:

• Face page

• Description (abstract) and personnel

• Table of contents

• Detailed budget for the initial budget period: The budget should reflect the composite figures for the cooperative agreement as well as breakdown budgets for individual projects within the cooperative agreement

• Budget for the entire proposed project period including budgets pertaining to consortium/contractual arrangements

• Biographical sketches of key personnel, consultants, and collaborators

• Other support: This listing should include all other funds or resources pending or currently available. For each grant or contract, include source of funds, amount of funding (indicate whether pending or current), date of funding (initiation and termination), and relationship to the proposed program

• Resources and environment available to carry out described activities.

• Operational plan including:

• A detailed operational plan including value to field, and specific, measurable, and time-framed objectives consistent with the proposed activities for each project within the proposed cooperative agreement.

• A detailed evaluation plan that addresses outcome and cost-effectiveness evaluation as well as formative, efficacy, and process evaluation.

• A description of the organization and its role in implementing and evaluating the proposed programs. The applicant should clearly specify how disciplines would be integrated to achieve the coordinating organization's objectives. Charts showing the proposed organizational structure of the coordinating organization and its relationship to any broader institution of which it is a part, and, where applicable, to affiliate institutions or collaborating organizations. These charts should clearly detail the lines of authority as they relate to the coordinating organization, both structurally and operationally.

• Documentation of the public health agencies and other public and private sector entities' involvement in the proposed program, including letters that detail commitments of support and a clear statement of the role, activities, and participating personnel of each agency or entity.

An applicant organization has the option of having specific salary and fringe benefit amounts for individuals omitted from the copies of the application, which are made available to outside reviewing groups. To exercise this option: on the original and two copies of the application, the applicant must use asterisks to indicate those individuals for whom salaries and fringe benefits are not shown; the subtotals must still be shown. In addition, the applicant must submit an additional copy of page four of Form PHS-398, completed in full, with the asterisks replaced by the salaries and fringe benefits. This budget page will be reserved for internal staff use only.

Funding restrictions, which must be taken into account while writing your budget, are as follows: None.

If you are requesting indirect costs in your budget, you must include a copy of your indirect cost rate agreement. If your indirect cost rate is a provisional rate, the agreement must be less than 12 months of age.

Guidance for completing your budget can be found on the CDC web site, at the following Internet address: http://www.cdc.gov/od/pgo/funding/budgetguide.htm.

Additional information may be included in the application appendices. The appendices will not be counted toward the narrative page limit. This additional information includes: Curriculum Vitae, Resumes, Organizational Charts and Letters of Support.

Submission Date, Time, and Address:

Application Deadline Date: March 8, 2004.

Application Submission Address: Submit your application by mail or express delivery service to: Technical Information Management—PA#04065, Centers for Disease Control and Prevention, Procurement and Grants Office, 2920 Brandywine Road, Atlanta, GA 30341.

Applications may not be submitted electronically.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

Intergovernmental Review of Applications: Executive Order 12372 does not apply to this program.

V. Application Review Information

Review Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Operational Plan (40 percent). Does the applicant provide an operational plan, which addresses achievement of each of the objectives proposed? Does the applicant provide a description of each component or major activity, how it relates to objectives, and how it will be accomplished? Does the plan include a detailed time-line for completion of each component or major activity?

2. Administration and Management (20 percent). Are the proposed organizational structure and management control systems reasonable and adequate? Is the proposed staffing adequate for completion of activities under this program announcement?

3. Evaluation Plan (20 percent). Does the evaluation plan provide an adequate basis for monitoring and evaluating proposed activities?

4. Scope, Goals, and Objectives (15 percent). Does the applicant provide relevant long-term goals and short-term objectives, which are specific, measurable, time-phased, and achievable?

5. Background and Need (5 percent). Does the applicant's experience in related projects, context, and needs match the purpose of this program announcement?

6. Budget (not scored). Is the budget, reasonable, clearly justified, and consistent with stated objectives and proposed activities?

Review and Selection Process: An objective review panel will evaluate your application according to the criteria listed above.

VI. Award Administration Information

Award Notices: Successful applicants will receive a Notice of Grant Award (NGA) from the CDC Procurement and Grants Office. The NGA shall be the only binding, authorizing document between the recipient and CDC. The NGA will be signed by an authorized Grants Management Officer, and mailed to the recipient fiscal officer identified in the application.

Administrative and National Policy Requirements: 45 CFR Part 74 and 92.

For more information on the Code of Federal Regulations, see the National Archives and Records Administration at the following Internet address: http://www.access.gpo.gov/nara/cfr/cfr-table-search.html.

The following additional requirements apply to this project:

• AR-10 Smoke-Free Workplace Requirements

• AR-11 Healthy People 2010

• AR-12 Lobbying Restrictions

• AR-13 Prohibition on Use of CDC Funds for Certain Gun Control Activities

• AR-15 Proof of Non-Profit Status

• AR-20 Conference Support

• AR-21 Small, Minority, and Women-Owned Business

• AR-22 Research Integrity

• AR-23 States and Faith-Based Organizations

• AR-24 Health Insurance Portability and Accountability Act Requirements

• AR-25 Release and Sharing of Data

Additional information on these requirements can be found on the CDC Web site at the following Internet address: http://www.cdc.gov/od/pgo/funding/ARs.htm.

Reporting Requirements: You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measure of effectiveness.

2. Financial status report, no more than 90 days after the end of the budget period.

3.Final financial and performance reports, no more than 90 days after the end of the project period.

VII. Agency Contacts

For general questions about this announcement, contact: Technical Information Management Section (PA# 04065), Centers for Disease Control and Prevention, Procurement and Grants Office, 2920 Brandywine Road, Atlanta, GA 30341, Telephone: (770) 488-2700.

For program technical assistance, contact: Tom Voglesonger, Project Officer, National Center for Injury Prevention and Control, Centers for Disease Control and Prevention (CDC), 4770 Buford Highway, NE, Mailstop K-02, Atlanta, GA 30341-3724, Telephone: (770) 488-4823, E-mail address: tdv1@cdc.gov.

For budget assistance, contact: Van King, Grants Management Specialist, Centers for Disease Control and Prevention, Procurement and Grants Office, 2920 Brandywine Road, Atlanta, GA 30341, Telephone: (770) 488-2751, E-mail: VBK5@cdc.gov.

Dated: December 31, 2003.
Edward Schultz,
Acting Director, Procurement and Grants Office, Centers for Disease Control and Prevention.

[FR Doc. 04-358 Filed 1-7-04; 8:45 am]

BILLING CODE 4163-18-P